DEPARTMENT OF COMMERCE

International Trade Administration

[A-475-818; A-489-805]

Final Results of Expedited Sunset Reviews: Certain Pasta From Italy and Turkey

AGENCY: Import Administration, International Trade Administration, Department of Commerce.

ACTION: Notice of final results of expedited sunset reviews: Certain pasta from Italy and Turkey.

SUMMARY: On June 1, 2001, the Department of Commerce (“the Department”) initiated five-year (“sunset”) reviews of the antidumping duty orders on certain pasta (“pasta”) from Italy and Turkey (66 FR 29771) pursuant to section 751(c) of the Tariff Act of 1930, as amended (“the Act”). On the basis of notices of intent to participate and substantive comments filed on behalf of the domestic interested parties, and inadequate response and/or request for waivers from respondent interested parties, the Department conducted expedited (120-day) sunset reviews of these antidumping duty orders. As a result of these reviews, the Department finds that revocation of the antidumping orders on pasta from Italy and Turkey would be likely to lead to continuation or recurrence of dumping at the levels indicated in the Final Results of Review section of this notice.

EFFECTIVE DATE: October 5, 2001.

FOR FURTHER INFORMATION CONTACT: Martha V. Douthit or Carole A. Showers, Office of Policy for Import Administration, International Trade Administration, U.S. Department of Commerce, 14th Street and Constitution Avenue, NW, Washington, D.C. 20230; telephone: (202) 482-5050 or (202) 482-3217, respectively.

SUPPLEMENTARY INFORMATION:

Statute and Regulations

These reviews were conducted pursuant to sections 751(c) and 752 of the Act. The Department's procedures for the conduct of sunset reviews are set forth in Procedures for Conducting Five-year (“Sunset”) Reviews of Antidumping and Countervailing Duty Orders, 63 FR 13516 (March 20, 1998) (“Sunset Regulations”), and in 19 CFR part 351 (2000) in general. Guidance on methodological or analytical issues relevant to the Department's conduct of sunset reviews is set forth in the Department's Policy Bulletin 98:3 Policies Regarding the Conduct of Five-year (“Sunset”) Reviews of Antidumping and Countervailing Duty Orders; Policy Bulletin, 63 FR 18871 (April 16, 1998) (“Sunset Policy Bulletin”).

Background

On June 1, 2001, the Department initiated sunset reviews of the antidumping duty orders on pasta from Italy and Turkey (66 FR 29771), pursuant to section 751(c) of the Act.¹ On June 15, 2001, the Department received Notices of Intent to Participate on behalf of New World Pasta, American Italian Pasta Company, Borden Foods Corporation, and Dakota Growers Pasta Company (collectively, “the domestic interested parties”), within the applicable deadline specified in section 351.218(d)(1)(i) of the Sunset Regulations.² The domestic interested parties claimed interested party status under section 771(9)(C) of the Act, as producers of certain pasta in the United States. On July 2, 2001, the Department received complete substantive responses from the domestic interested parties within the 30-day deadline specified in the Sunset Regulations under section 351.218(d)(3)(i).³ We did not receive substantive responses from respondent interested parties in these proceedings.⁴ As a result, pursuant to 19 CFR 351.218(e)(1)(ii)(C), the Department conducted an expedited, 120-day, sunset review of these antidumping duty orders.

¹ See Notice of Initiation of Five-Year (Sunset) Reviews, 66 FR 29771 (June 1, 2001).

² See Letter of Domestic Party Notice of Intent to Participate—Sunset Review of the Antidumping Duty Order on Certain Pasta from Italy, June 15, 2001, and Domestic Party Notice of Intent to Participate—Sunset Review of the Antidumping Duty Order on Certain Pasta from Turkey, June 15, 2001.

³ See Substantive Response by the Domestic Industry, Sunset Review of the Antidumping Duty Order on Certain Pasta from Italy, July 2, 2001, and Substantive Response by the Domestic Industry, Sunset Review of the Antidumping Duty Order on Certain Pasta from from Turkey, July 2, 2001.

⁴ On June 4, 2001, La Molisana Industrie Alimentari (“La Molisana”) and Molisana U.S. entered an appearance in support of revocation of the antidumping duty order on Certain Pasta from Italy. On June 27, 2001, Rienzi & Sons, Inc. (“Rienzi”), and N. Puglisi & F. Industria Paste Alimentari S.p.A. (“Puglisi”) entered an appearance in the proceeding on Certain Pasta from Italy. These companies did not submit substantive responses in this review.

On June 29, 2001 and July 2, 2001, the Department received waivers of participation in the Department's sunset review on pasta from Italy on behelf of Delverde, SpA (“Delverde”), Tamma Industri Alimentari di Capitanata SrL (“Tamma”) and Prodotti Alimentari Meridionali S.r.L. (“PAM”).

Scope of Reviews

Italy (A-475-818)

Imports covered by the antidumping duty order on pasta from Italy include shipments of certain non-egg dry pasta in packages of five pounds (2.27 kilograms) or less, whether or not enriched or fortified or containing milk or other optional ingredients such as chopped vegetables, vegetable purees, milk, gluten, diastasis, vitamins, coloring and flavorings, and up to two percent egg white. The pasta covered by this order is typically sold in the retail market, in fiberboard or cardboard cartons, or polyethylene or polypropylene bags of varying dimensions.

Excluded from the scope of this order are refrigerated, frozen, or canned pastas, as well as all forms of egg pasta, with the exception of non-egg dry pasta containing up to two percent egg white. Also excluded from this order are imports of organic pasta from Italy that are accompanied by the appropriate certificate issued by the Instituto Mediterraneo Di Certificazione, by Bioagricoop Scrl, by QC&I International Services, by Ecocert Italia or by Consorzio per il Controllo dei Prodotti Biologici.

The merchandise subject to the antidumping duty order on pasta from Italy is currently classifiable under item 1902.19.20 of the Harmonized Tariff Schedule of the United States (“HTSUS”). Although the HTSUS subheading is provided for convenience and Customs purposes, the written description of the merchandise subject to the order is dispositive.

Scope Rulings

The Department has issued the following scope rulings:

(1) On August 25, 1997, the Department issued a scope ruling, finding that multicolored pasta, imported in kitchen display bottles of decorative glass that are sealed with cork or paraffin and bound with raffia, is excluded from the scope of the order. See Memorandum from Edward Easton to Richard Moreland, dated August 25, 1997, on file in the Central Records Unit (“CRU”) of the main Commerce Building, Room B-099.

(2) On July 30, 1998, the Department issued a scope ruling, finding that multipacks consisting of six one-pound packages of pasta that are shrink-wrapped into a single package are within the scope of the order. See letter from Susan H. Kuhbach, Acting Deputy Assistant Secretary for Import Administration, to Barbara P. Sidari, Vice President, Joseph A. Sidari Company, Inc., dated July 30, 1998, on file in the CRU.

(3) On October 23, 1997, the petitioners filed a request that the Department initiate an anti-circumvention investigation against Barilla, an Italian producer and exporter of pasta. On October 5, 1998, the Department issued a final determination that, pursuant to section 781(a) of the Act, Barilla was circumventing the antidumping duty order by exporting bulk pasta from Italy which it subsequently repackaged in the United States into packages of five pounds or less for sale in the United States. See Anti-circumvention Inquiry of the Antidumping Duty Order on Certain Pasta from Italy: Affirmative Final Determination of Circumvention of the Antidumping Duty Order, 63 FR 54672 (October 13, 1998) (Barilla Circumvention Inquiry).

(4) On October 26, 1998, the Department self-initiated a scope inquiry to determine whether a package weighing over five pounds as a result of allowable industry tolerances may be within the scope of the order. On May 24, 1999, we issued a final scope ruling finding that, effective October 26, 1998, pasta in packages weighing up to (and including) five pounds four ounces, and so labeled, is within the scope of the order. See Memorandum from John Brinkmann to Richard Moreland, dated May 24, 1999 on file in the CRU.

On December 13, 2000 the Department revoked the antidumping duty order with respect to De Cecco. See 65 FR 77852 (December 13, 2000).

Turkey (A-489-805)

Imports covered by the antidumping duty order on pasta from Turkey include shipments of certain non-egg dry pasta in packages of five pounds (2.27 kilograms) or less, whether or not enriched or fortified or containing milk or other optional ingredients such as chopped vegetables, vegetable purees, milk, gluten, diastases, vitamins, coloring and flavorings, and up to two percent egg white. The pasta covered by this order is typically sold in the retail market, in fiberboard or cardboard cartons, or polyethylene or polypropylene bags of varying dimensions. Excluded from the scope of this order are refrigerated, frozen, or canned pastas, as well as all forms of egg pasta, with the exception of non-egg dry pasta containing up to two percent egg white.

The merchandise subject to review is currently classifiable under item 1902.19.20 of the Harmonized Tariff Schedule of the United States (“HTSUS”). Although the HTSUS subheading is provided for convenience and Customs purposes, the written description of the merchandise subject to the order is dispositive.

Scope Ruling

On October 26, 1998, the Department self-initiated a scope inquiry to determine whether a package weighing over five pounds as a result of allowable industry tolerances may be within the scope of the orders. On May 24, 1999 we issued a final scope ruling finding that, effective October 26, 1998, pasta in packages weighing up to (and including) five pounds four ounces, and so labeled, is within the scope of the order. See Memorandum from John Brinkmann to Richard Moreland, dated May 24, 1999, on file in the CRU.

Analysis of Comments Received

All issues raised by parties to this sunset review are addressed in the Issues and Decision Memorandum (“Decision Memorandum”) from Jeffrey A. May, Director, Office of Policy, Import Administration, to Faryar Shirzad, Assistant Secretary for Import Administration, dated October 1, 2001, which is hereby adopted by this notice. The issues discussed in the Decision Memorandum include the likelihood of continuation or recurrence of dumping and the magnitude of the margins likely to prevail were the order revoked. Parties may find a complete discussion of all issues raised in these reviews and the corresponding recommendations in this public memorandum which is on file in the Central Records Unit, room B-099, of the main Commerce building. In addition, a complete version of the Decision Memorandum may be accessed directly on the Web at http://ia.ita.doc.gov/frn, under the heading “October 2001.” The paper copy and electronic version of the Decision Memorandum are identical in content.

Final Results of Reviews

We determine that revocation of the antidumping duty orders on pasta from Italy and Turkey would likely lead to continuation or recurrence of dumping at the following percentage weighted-average margins:

Manufacturer/producer/exporter | Weighted-average margin (percent)
Arrighi/Italpasta | 19.09
De Cecco | Revoked
De Matteis | 0.00
Delverde/Tamma | 1.68
La Molisana | 14.73
Liguori | 11.58
Pagani | 17.47
All Others | 11.26

The antidumping order with respect to De Cecco, was revoked based on three years of sales in commercial quantities at not less than normal value. See 65 FR 77852 (December 13, 2000).

Manufacturer/producer/exporter | Amended margin (%) (61 FR 38545) | Revised deposit rate (61 FR 38545)
Filiz | 63.29 | 63.29
Maktas | 60.87 | 48.26*
All Others | 60.87 | 51.49*
* Article VI of the General Agreement on Tariffs and Trade (1947) prohibits assessing dumping duties on the portion of the margin attributable on an export subsidy. In this case, the product in the investigation was subject to a countervailing duty order (see Final Affirmative Countervailing Duty Determination: Certain Pasta from Turkey, 61 FR 30288 (June 14, 1996). Therefore, for all entries of pasta from Turkey, entered or withdrawn from warehouse for consumption made on or after the date on which the order in the companion countervailing duty order investigation was published in the Federal Register, Customs is instructed to deduct the portion of the margin attributable to the export subsidy form the countervailing duty investigation. Therefore, the cash deposit rate for Maktas is 48.26, and 51.49 percent for all other Turkish manufacturers/producers/exporters. The deposit rate for Filiz is based on total adverse facts available taken from the petition. Because the margin for Filiz was not a calculated margin, the margin remains unchanged.

This notice serves as the only reminder to parties subject to administrative protective order (“APO”) of their responsibility concerning the disposition of proprietary information disclosed under APO in accordance with 19 CFR 351.305 of the Department's regulations. Timely notification of return/destruction of APO materials or conversion to judicial protective order is hereby requested. Failure to comply with the regulations and the terms of an APO is a sanctionable violation.

This sunset review and notice are in accordance with sections 751(c), 752, and 777(i)(1) of the Act.

Dated: October 1, 2001.
Joseph A. Spetrini,
Acting Assistant Secretary for Import Administration.

[FR Doc. 01-25102 Filed 10-4-01; 8:45 am]

BILLING CODE 3510-DS-P